NATIONAL AERONAUTICS AND SPACE ADMINISTRATION

[Notice: (17-041)]

NASA Astrophysics Advisory Committee; Meeting.

AGENCY: National Aeronautics and Space Administration.

ACTION: Notice of meeting.

SUMMARY: In accordance with the Federal Advisory Committee Act, Public Law 92-463, as amended, the National Aeronautics and Space Administration (NASA) announces a meeting of the Astrophysics Advisory Committee. This Committee reports to the Director, Astrophysics Division, Science Mission Directorate, NASA Headquarters. The meeting will be held for the purpose of soliciting, from the scientific community and other persons, scientific and technical information relevant to program planning.

DATES: Wednesday, July 19, 2017, 8:30 a.m.-5:00 p.m.; and Thursday, July 20, 2017, 8:30 a.m.-5:00 p.m., Eastern Daylight Time (EDT).

ADDRESSES: On July 19: NASA Headquarters, Room 6H42, 300 E Street SW., Washington, DC 20546. On July 20: Residence Inn Capitol, Senate Room, 333 E Street SW., Washington, DC 20024.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be open to the public up to the capacity of the room. The meeting will be available telephonically and by WebEx. You must use a touch-tone phone to participate in this meeting. Any interested person may dial the USA toll free conference call number 1-888-469-3018 or toll number 1-210-234-0113, passcode 6295733, to participate in this meeting by telephone on both days. The WebEx link is https://nasa.webex.com/; the meeting number on July 19 is 996 101 861, password is APAC@1920; and the meeting number on July 20 is 994 706 096, password is APAC@1920.

The agenda for the meeting includes the following topics:

—Astrophysics Division Update

—Updates on Specific Astrophysics Missions

—Reports from the Program Analysis Groups

—Reports from Specific Research & Analysis Programs

The agenda will be posted on the Astrophysics Advisory committee Web page: https://science.nasa.gov/researchers/nac/science-advisory-committees/apac.

Attendees will be requested to sign a register and to comply with NASA Headquarters security requirements, including the presentation of a valid picture ID to Security before access to NASA Headquarters. Due to the Real ID Act, any attendees with driver's licenses issued from non-compliant states must present a second form of ID. Non-compliant states are: Minnesota and Missouri. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees with U.S. citizens and Permanent Residents (green card holders) can provide full name and citizenship status 3 working days in advance. Information should be sent to Ms. KarShelia Henderson, via email at khenderson@nasa.gov or by fax at (202) 358-2779. It is imperative that the meeting be held on this date to accommodate the scheduling priorities of the key participants.

Patricia D. Rausch,
Advisory Committee Management Officer, National Aeronautics and Space Administration.

[FR Doc. 2017-13501 Filed 6-27-17; 8:45 am]

BILLING CODE 7510-13-P